DEPARTMENT OF VETERANS AFFAIRS

Voluntary Service National Advisory Committee, Notice of Meeting

The Department of Veterans Affairs (VA) gives notice under the Federal Advisory Committee Act, 5 U.S.C. ch. 10, that the Executive Committee of the VA Voluntary Service (VAVS) National Advisory Committee (Committee) will meet on October 26-27, 2023 at the Veterans of Foreign Wars Washington Office located at 200 Maryland Avenue NE, Washington, DC 20002. The meeting sessions will begin and end as follows:

Date(s) | Time(s)
Thursday, October 26, 2023 | 9:00 a.m. to 5:00 p.m. Eastern Standard Time (EST).
Friday, October 27, 2023 | 9:00 a.m. to 12:30 p.m. EST.

The meeting sessions are open to the public.

The Committee advises the Secretary, through the Under Secretary for Health, on the coordination and promotion of volunteer activities and strategic partnerships within VA health care facilities on matters related to volunteerism. The Committee is also comprised of 56 major Veteran, civic and service organizations. The Executive Committee consists of 20 representatives from the Committee member organizations.

Agenda topics will include the Committee goals and objectives; review of minutes from the April 26, 2023 meeting; an update on VA Center for Development and Civic Engagement activities; Veterans Health Administration update and journey to become a High Reliability Organization; subcommittee reports; review of standard operating procedures; review of fiscal year 2023 organization data; 2024 annual the Committee meeting plans; and any new business.

The public may submit written statements for the Committee's review to Sabrina C. Clark, Ph.D., Designated Federal Officer, VA Center for Development and Civic Engagement (15CDCE), Department of Veterans Affairs, 810 Vermont Avenue NW, Washington, DC 20420, or email at Sabrina.Clark@va.gov. Any member of the public wishing to attend the meeting or seeking additional information should contact Dr. Clark at 202-536-8603.

Dated: September 27, 2023.
Jelessa M. Burney,
Federal Advisory Committee Management Officer.

[FR Doc. 2023-21736 Filed 9-29-23; 8:45 am]

BILLING CODE P